CORPORATION FOR NATIONAL AND COMMUNITY SERVICE

Privacy Act of 1974, as Amended; System of Records

AGENCY: Corporation for National and Community Service.

ACTION: Notice of proposed new Privacy Act Systems of Records.

SUMMARY: In accordance with the Privacy Act of 1974, as amended, the Corporation for National and Community Service (hereinafter the “Corporation”) gives notice of two new Privacy Act systems of records. The Corporation seeks comment on these two new systems of record as described in this notice in accordance with the requirements of the Privacy Act.

DATES: We must receive your comments on the proposed two new systems of records included in this notice on or before September 4, 2002. The proposed new systems of records will become effective September 6, 2002, unless any comments received delay the effective date.

ADDRESSES: Address all comments on the proposed new systems of records to the Corporation for National and Community Service, Attn: Bill Hudson, Corporation Privacy Officer, Room 8204, 1201 New York Avenue, NW., Washington DC, 20525. Please be sure to specify which system of records you are commenting on. Individuals who use a telecommunications device for the deaf (TTY/TDD) may call (202) 606-5256 between the hours of 9 a.m. and 4:30 p.m. Eastern time, Monday through Friday.

FOR FURTHER INFORMATION CONTACT: For information regarding the “Volunteer Service Tracking Tool”, contact the Corporation for National and Community Service, Office of Public Affairs, Attn: Ms. Christine Benero, 1201 New York Avenue, NW., Washington, DC 20525. Telephone: (202) 606-5000, Ext. 193. For information regarding the “Join Senior Service Now” Web-based Recruiting System (JASON), contact the Corporation for National and Community Service, National Senior Service Corps, Attn: Mr. Peter Boynton, 1201 New York Avenue, NW., Washington, DC 20525. Telephone: (202) 606-5000, Ext 499.

SUPPLEMENTARY INFORMATION: Pursuant to the Privacy Act of 1974, as amended, 5 U.S.C., 552a, the Corporation proposes to establish the following new systems of records:

(1) Volunteer Service Tracking Tool (Corporation-19)

In his State of the Union address, President Bush called on all Americans to perform some form of service to the nation for the equivalent of two years of their life. Americans serve their country in extraordinary and countless ways. Most of our Nation's civic work is being done without the aid of the Federal Government, but we believe the Federal Government can work to enhance the opportunities for Americans to serve their neighbors and their Nation. The Administration proposes to create and expand activities that will enhance homeland security, provide additional community-based service and volunteer opportunities, and assist people around the world. In January, the President announced the creation of the USA Freedom Corps which has three major components: a newly created Citizen Corps to engage citizens in homeland security; an improved and enhanced AmeriCorps and Senior Corps, programs of the Corporation; and a strengthened Peace Corps.

In support of the President's call to service, the Corporation has created an electronic record of service that provides citizens who accept his challenge a way to track their service time and record their service hours. Use of this tracking tool is 100 percent electronic in that users will establish a user ID and password that automatically creates a “record of service” account which is only accessible to that particular user. This record of service account can be updated only by the user who established the account. In addition, those users who create a record of service account can, by checking various blocks, elect to receive information about USA Freedom Corps and other national and community service volunteer activities.

(2) Join Senior Service Now Web-based Recruiting System (JASON) (Corporation-20)

Senior Corps volunteers serve with local projects of the Retired and Senior Volunteer Program (RSVP), the Foster Grandparent Program (FGP) and the Senior Companion Program (SCP). Individuals learn about these opportunities through a variety of means, including public service announcements, posters, advertisements, and visits to the Corporation's Web site and Web sites of local projects. These media and others will be used to direct interested individuals to the JASON Web site at www.joinseniorservice.org.

When they use JASON, prospective volunteers have the opportunity to find senior service projects of interest to them in two ways:

(1) Fast Match. By using the system's “Fast Match” feature, individuals can search for projects by selecting the senior service program(s) they are interested in and providing their ZIP code and the distance they are willing to travel. They also have the option to narrow their search by selecting one or more areas of service and/or entering one or more key words. They receive a listing of opportunities within the Senior Corps grantee network that match their service, distance, and/or other specifications and preferences.

(2) Registration. Individual seniors can also register with the system. Registration allows individuals the option of expressing interest in volunteering with senior service projects of their choosing and of sending certain information about themselves to the volunteer recruiters of those projects.

These two new systems of records reports, required by the Privacy Act, 5 U.S.C. 552a(r), have been submitted to the Committee on Governmental Affairs of the Senate, the Committee on Government Reform and Oversight of the House, and the Office of Information and Regulatory Affairs, Office of Management and Budget (OMB), pursuant to Appendix 1 to OMB Circular A-130, Federal Agency Responsibilities for Maintaining Records About Individuals, dated February 8, 1996.

The two proposed new systems of records, described above, are published in their entirety below.

Dated: July 17, 2002.
Wendy Zenker,
Chief Operating Officer.

CORPORATION-19

System Name:

USA Freedom Corps Record of Service.

System Location:

Corporation for National and Community Service, Office of Public Affairs, 1201 New York Avenue, NW., Washington, DC 20525.

Categories of Individuals Covered by the System:

Individuals who have recorded information on their community service participation.

Categories of Records in the System:

Participant's e-mail address, participant's length of service, and information about the volunteer's history of service.

Authority for Maintenance of the System:

National and Community Service Act of 1990, as amended.

Purpose(s):

To provide citizens a way to track their service time and record their service hours.

Routine Uses of Records Maintained in the System, Including Categories of Users and the Purpose of Such Uses:

See General Routine Uses contained in Preliminary Statement.

Policies and Practices for Storing, Retrieving, Accessing, Retaining and Disposing of Records in the System:

Storage:

Records are stored in a database maintained by a Corporation contractor.

Retrievability:

The participant's e-mail address retrieves records.

Safeguards:

The information is available only to Corporation and USA Freedom Corps staff. It is not available to anyone else without the express written consent from the individual to release his/her information.

Retention and Disposal:

These records are maintained permanently.

System Manager(s) and Address:

Webmaster, Corporation for National and Community Service, 1201 New York Avenue, NW., Washington, DC 20525.

Notification Procedure:

To determine whether there is a record in the system about an individual, a participant should contact the Corporation for National and Community Service, Attn: Webmaster, 1201 New York Avenue, NW., Washington, DC 20525, and provide his/her e-mail address.

Records Access Procedures

See Notification procedures.

Contesting Records Procedures:

Anyone desiring to contest or amend information maintained in his/her electronic record may do so by addressing such request to the Corporation for National and Community Service, Attn: Privacy Act Officer, 1201 New York Avenue, NW., Washington, DC 20525.

Record Source Categories:

Data is obtained from the electronic entries made by the participant into our registration system.

Exemption Claimed for the System:

None.

CORPORATION-20

System Name:

Join Senior Service Now Web-based Recruiting System (JASON).

System Location:

Electronic records may be maintained by either the National Senior Service Corps (Senior Corps) or a Corporation contractor.

Categories of Individuals Covered by the System:

Prospective senior volunteers who voluntarily elect to use the JASON system to seek placement with organizations seeking the services of senior volunteers.

Categories of Records in the System:

Registration Data, Volunteer Interest Profile, Volunteer-Seeking Organization or Project Data Organizations.

Authority for Maintenance of the System:

The Domestic Volunteer Service Act of 1973, as amended.

Purpose(s):

To match prospective senior volunteers who voluntarily elect to use the JASON system to seek placement with organizations seeking the services of senior volunteers.

Routine Uses of Records Maintained in the System, Including Categories of Users and the Purposes of Such Uses:

See General Routine Uses Contained in Preliminary Statement.

Policies and Practices for Storing, Retrieving, Accessing, Retaining, and Disposing of Records in the System:

Storage:

See General Routine Uses contained in Preliminary Statement. Information is collected electronically and stored on computers.

Retrievability:

Information stored by an individual is retrievable by user name and password that provides access to the data he or she provided to the system.

Safeguards:

Electronic records are protected by the use of passwords.

Retention and Disposal:

Records will be retained indefinitely to permit longitudinal analyses, but archived periodically and stored in a secure location.

System Manager(s) and Address:

Senior Program Officer, Technical Assistance and Project Information Systems, National Senior Service Corps, Corporation for National and Community Service, 1201 New York Avenue, NW., Washington, DC 20525.

Notification Procedure:

To determine whether there is a record in the system about an individual, that individual should submit a request, in writing, to the system manager giving their full name, and user ID used to access JASON.

Record Access Procedure:

See Notification procedures.

Contesting Record Procedure:

Anyone desiring to contest or amend information in this system should write to the system manager and set forth the basis for which the record is believed to be incomplete or incorrect.

Record Source Categories:

Data in this system is obtained from individual seniors seeking to opportunities to volunteer their services and from organizations with projects who are seeking senior volunteers. Furnishing of information to the system is voluntary.

Exemption Claimed for the System:

None.

[FR Doc. 02-18820 Filed 7-24-02; 8:45 am]

BILLING CODE 6050-$$-P